NATIONAL SCIENCE FOUNDATION

National Science Board; Hearing on 21st Century Education in Science, Mathematics and Technology

Date and Time: February 10, 2006, 12:30 p.m.-6 p.m. (MT).

Place: University of Colorado, University Memorial Center, Room 235 (Student Union), Boulder, Colorado.

Contact Information: Please refer to the National Science Board Web site (http://www.nsf.gov/nsb) for updated Agenda and information on Webcast. NSB Office: Mrs. Susan E. Fannoney (703) 292-7000.

Status: This Hearing will be open to the public.

Provisional Agenda

12:30 p.m. Welcome

Warren M. Washington, Chairman, National Science Board, Senior Scientist and Section Head, National Center for Atmospheric Research

12:35 p.m. Opening Remarks

Steven C. Beering, National Science Board, President Emeritus, Purdue University

12:45 p.m. Congressional Commentary and Discussion

Congressman Mark Udall, Ranking Member, Subcommittee on Space and Aeronautics, Committee on Science

1 p.m. Panelist Commentary

Susan Windels , Colorado General Assembly, Chair, Senate Education Committee

Randy Dehoff, Colorado Department of Education, Colorado State Board of Education

John Evans, Colorado General Assembly, Senate Education Committee

Keith King, Colorado General Assembly, House Education Committee

1:35 p.m. Roundtable Discussion

1:45 p.m. Panelist Commentary

Cindy Stevenson, Superintendent, Jefferson County Public Schools

Cindy Moss, K-12 Science Coordinator, Charlotte/Mecklenburg Public Schools

Terry Joyner, Chief Academic Officer, Cincinnati Public Schools

Timothy McCollum, 7-12 Science Teacher, Charleston Middle School

2:15 p.m. Roundtable Discussion

2:25 p.m. Panelist Commentary

Michael Barnett, Senior Physicist and Educator, Lawrence Berkeley National Laboratory

Joseph Heppert, Chairman, Department of Chemistry, University of Kansas

Thomas Smith, Professor of Chemistry and Microsystems Engineering, Rochester Institute of Technology

Karin Wiburg, Associate Dean for Research, New Mexico State University

2:55 p.m. Roundtable Discussion

3:05 p.m. Break

3:20 p.m. Panelist Commentary

Shirley Malcom, Head, Directorate for Education, American Association for the Advancement of Science (AAAS)

Dennis Bartels, President, TERC Science and Math Learning

Leon Lederman, Fermilab Director Emeritus and Chairman, Teachers Academy for Mathematics and Science

Judith Opert Sandler, Vice President, Education Development Center, Inc.

3:50 p.m. Roundtable Discussion

4 p.m. Panelist Commentary

Ruth David, President and CEO, Analytic Services, Inc.

James Von Her, Founder, Chairman, and CEO, Zyvex Corp.

Della Williams, President and CEO, Williams-Pyro, Inc.

Robin Willner, Vice President, Global Community Relations, IBM Corp.

Michael Miravalle, President and CEO, Dolphin Technology, Inc.

4:35 p.m. Roundtable Discussion

4:45 p.m. Comments from the Audience.

6 p.m. Closing Remarks

Dr. Beering

Michael P. Crosby,
Executive Officer and NSB Office Director.

[FR Doc. E6-1375 Filed 2-1-06; 8:45 am]

BILLING CODE 7555-01-P